DEPARTMENT OF TRANSPORTATION

Federal Aviation Administration

Notice of Intent To Rule on Request To Change 19 Acres of Land From Aeronautical to Non-Aeronautical Use at Presque Isle International Airport in Presque Isle, Maine

AGENCY: Federal Aviation Administration (FAA), DOT.

ACTION: Request for public comments.

SUMMARY: Notice is being given that the FAA is considering a request from the City of Presque Isle to change 19 acres of land from Aeronautical Use to Non-Aeronautical Use for a Solar facility at Presque Isle International Airport, Presque Isle, Presque Isle, ME. A solar facility will be constructed on 19 acres of land at Presque Isle International Airport. The solar facility is being constructed on land not required for aviation use. The land has been designated for non-aeronautical use. The airport will have a land lease with the solar company that will generate a new non-aeronautical revenue source for the airport. The land lease proceeds will be deposited in the airport's operation and maintenance account.

DATES: Comments must be received on or before April 21, 2022.

ADDRESSES: You may send comments using any of the following methods:

• Federal eRulemaking Portal: Go to http://www.regulations.gov, and follow the instructions on providing comments.

• Fax: 202-493-2251.

• Mail: U.S. Department of Transportation, Docket Operations, M-30, West Building Ground Floor, Room W 12-140, 1200 New Jersey Avenue SE, Washington, DC 20590.

• Hand Delivery: Deliver to mail address above between 9 a.m. and 5 p.m., Monday through Friday, except Federal holidays.

Interested persons may inspect the request and supporting documents by contacting the FAA at the address listed under FOR FURTHER INFORMATION CONTACT.

FOR FURTHER INFORMATION CONTACT: Mr. Jorge E. Panteli, Compliance and Land Use Specialist, Federal Aviation Administration New England Region Airports Division, 1200 District Avenue, Burlington, Massachusetts 01803. Telephone: 781-238-7618.

Issued in Burlington, Massachusetts, on March 21, 2022.
Julie Seltsam-Wilps,
Deputy Director, ANE-600.

[FR Doc. 2022-06299 Filed 3-24-22; 8:45 am]

BILLING CODE P